DEPARTMENT OF HEALTH AND HUMAN SERVICES

Centers for Disease Control and Prevention

National Institute for Occupational Safety and Health; Meetings

The National Institute for Occupational Safety and Health (NIOSH) of the Centers for Disease Control and Prevention (CDC) announces the following public meeting and request for information:

Name: NIOSH Occupational Energy Research Program Information Sharing Meeting.

Date and Time: October 27, 2005; 9 a.m.-5 p.m.

Place: Washington Court Hotel, 525 New Jersey Avenue NW., Washington, DC 20001.

Status: Meeting is open to the public, limited only by the space available.

Background: NIOSH has been conducting an occupational epidemiologic research program addressing potential long term health effects of working in the Department of Energy (DOE) nuclear weapons complex under a series of Memoranda of Understanding (MOUs) with DOE. Establishment of this research program began following recommendations of a Secretarial Panel for the Evaluation of Epidemiologic Research Activities (SPEERA) for the U.S. Department of Energy in 1990. Input from various stakeholders has been sought since the program's inception including organized labor, current and former workers, DOE site management and contractors, DOE headquarters, academic research partners, the occupational safety and health community, various governmental agencies, and the general public. A document entitled: Agenda for HHS Public Health Activities (For Fiscal Years 2005-2010) at U.S. Department of Energy Sites is accessible at http://www.cdc.gov/niosh/pdfs/hhsdoe_2005-2010-2.pdf and includes information on completed, ongoing, and proposed occupational epidemiologic research activities under the DOE-DHHS MOU.

Purpose: This meeting will provide an overview of recently completed work conducted under the MOU, outline ongoing research activities, summarize findings and follow-up from a NIOSH public meeting held July 2004 addressing chronic lymphocytic leukemia radiogenic research, and discuss plans for future research. Attendees will have opportunities for questions and oral commentary on this NIOSH research program. Stakeholder feedback and the opportunity to update stakeholders on this research program are two primary objectives of the meeting. Written comments will be accepted at the meeting and may also be sent to the address for the NIOSH Health-Related Energy Research Branch below.

The agenda for this meeting is currently being developed. Stakeholders interested in attending may request additional information from the contact person identified below. Written comments may also be submitted to the address below until November 1, 2005.

Contact Person for More Information: Ms. Patty Gudlewski may be contacted at 513-841-4419 or by e-mail at PGudlewski@cdc.gov.

Addresses: Written requests for meeting information may be sent to Ms. P. Gudlewski; NIOSH-HERB; Mailstop R-44; 4676 Columbia Parkway; Cincinnati, OH 45226. Written comments should be sent to the attention of Dr. Steven Ahrenholz at the same NIOSH mailing address or may be e-mailed to him at SAhrenholz@cdc.gov.

The Director, Management Analysis and Services Office, has been delegated the authority to sign Federal Register notices pertaining to announcements of meetings and other committee management activities for both the Centers for Disease Control and Prevention and the Agency for Toxic Substances and Disease Registry.

Dated: August 10, 2005.
Alvin Hall,
Director, Management Analysis and Services Office, Centers for Disease Control and Prevention.

[FR Doc. 05-16257 Filed 8-16-05; 8:45 am]

BILLING CODE 4163-18-P